DEPARTMENT OF LABOR

Employment and Training Administration

[TA-W-38,011]

Santtony Wear LLC, Rockingham, North Carolina; Notice of Termination of Investigation

Pursuant to section 221 of the Trade Act of 1974, an investigation was initiated on August 28, 2000, in response to a petition filed by a company official on behalf of workers at Santtony Wear LLC, Rockingham, North Carolina.

The company official submitting the petition has requested that the petition be withdrawn. Consequently, further investigation in this case would serve no purpose, and the investigation has been terminated.

Signed in Washington, DC this 20th day of September, 2000.
Edward A. Tomchick,
Director, Division of Trade Adjustment Assistance.

[FR Doc. 00-25065 Filed 9-28-00; 8:45 am]

BILLING CODE 4510-30-M